DEPARTMENT OF ENERGY

Western Area Power Administration

Notice of Intent To Prepare a Supplemental Draft Environmental Impact Statement—Interconnection of the Proposed Wilton IV Wind Energy Center Project, North Dakota (DOE/EIS-0469)

AGENCY: Western Area Power Administration, DOE.

ACTION: Notice of Intent to Prepare a Supplemental Draft Environmental Impact Statement and to Conduct a Scoping Meeting; Notice of Floodplain and Wetlands Involvement.

SUMMARY: Western Area Power Administration (Western), an agency of the U.S. Department of Energy (DOE), intends to prepare a Supplemental Draft Environmental Impact Statement (SDEIS) for the interconnection of NextEra Energy Resources' proposed Wilton IV Wind Energy Center Project (Project), Burleigh County, North Dakota. Western is issuing this Notice of Intent (NOI) to inform the public and interested parties about a change in the proposed Project and to invite the public to comment on the scope, proposed action, and other issues to be addressed in the SDEIS. Based on substantial changes to the proposed Project, Western has made the decision to prepare an SDEIS. These changes include the relocation of 30 planned turbine locations and 5 alternate turbine locations in Crofte Township, and moving them as far as 12 miles north-east to Rock Hill Township. Additionally, up to 20 miles of new overhead transmission line will be necessary to connect the Project collector substation to the existing Wilton/Baldwin substation. Portions of the proposed Project may affect floodplains and wetlands, so this NOI also serves as a notice of proposed floodplain or wetland action in accordance with DOE floodplain and wetland environmental review requirements.

DATES: A public scoping meeting will be held on December 11, 2013, from 5 p.m. to 8 p.m. at the Wilton Memorial Hall, located at 105 Dakota Avenue, Wilton, North Dakota. Local notification of this meeting has been made through direct mailings to affected parties and by advertising in local media to ensure a minimum of 15 days of prior notice. The public scoping period starts with the publication of this notice and ends on December 20, 2013. Western will consider all comments on the scope of the SDEIS received or postmarked by that date. However, the public is invited to submit comments on the proposed Project at any time during the SDEIS process.

ADDRESSES: Western will host a public scoping meeting at the Wilton Memorial Hall, located at 105 Dakota Avenue, Wilton, North Dakota, to provide information on the Project and gather comments on the proposal. Oral or written comments may be provided at the public scoping meeting or mailed or emailed to Matt Marsh, Upper Great Plains Regional Office, Western Area Power Administration, P.O. Box 35800, Billings, MT 59107-5800, email MMarsh@wapa.gov, telephone (800) 358-3415.

FOR FURTHER INFORMATION CONTACT: For additional information on the proposed Project, the SDEIS process, or to receive a copy of the SDEIS when it is published, contact Matt Marsh at the addresses above. For general information on the DOE's NEPA review process, contact Carol M. Borgstrom, Director of NEPA Policy and Compliance, GC-54, U.S. Department of Energy, 1000 Independence Avenue SW., Washington, DC 20585-0119, telephone (202) 586-4600 or (800) 472-2756, facsimile (202) 586-7031.

Dated: November 12, 2013.
Mark A. Gabriel,
Administrator.

[FR Doc. 2013-27861 Filed 11-19-13; 8:45 am]

BILLING CODE 6450-01-P